DEPARTMENT OF ENERGY

Federal Energy Regulatory Commission

[Docket No. AD02-13-000]

Conference on Energy Infrastructure; Notice of Conference

March 20, 2002.

The Federal Energy Regulatory Commission (FERC) will hold a conference on energy infrastructure issues in the southeastern states on Thursday, May 9, 2002 at the Orlando World Center Marriott Resort and Convention Center, 8701 World Center Drive, Orlando, Florida.

The conference is for the purpose of discussing the adequacy of the electric, gas and other energy infrastructure in the Southeast, and related matters. In addition to specialized panelists, the Governors and state utility commissioners of the southeastern states are being invited to participate. The goal is to identify present infrastructure needs, investment and other barriers to expansion, and environmental and landowner concerns. We look forward to an informative discussion of the issues to clarify how we can facilitate and enhance a comprehensive collaborative approach to energy infrastructure development and reliability for the southeastern states. It is our firm belief that until we have an adequate, well-functioning energy infrastructure, we cannot expect workable, competitive markets.

The one-day meeting will begin at 9:00 a.m. and conclude at 4:30 p.m. All interested parties are invited to attend. Hotel rooms have been blocked at the Marriott under the name of the Federal Energy Regulatory Commission for any attending guests to reserve a one- or two-night stay but will be released by April 17. You can still reserve a room after April 17, but on a room availability and rate basis. The hotel can be reached at 1-800-621-0638.

To attend, please register online on the Commission Web site at http://www.ferc.gov/calendar/courses-outreach/coursesoutreach.htm.Scroll down and click on “Southeast Energy Infrastructure Conference”. There is no registration fee. We will issue further details on the conference, including the agenda and a list of participants, as plans evolve. For additional information, please contact Carol Connors in the Office of External Affairs atcarol.connors@ferc.gov.

Linwood A. Watson, Jr.,
Deputy Secretary.

[FR Doc. 02-7199 Filed 3-25-02; 8:45 am]

BILLING CODE 6717-01-P